DEPARTMENT OF VETERANS AFFAIRS

[OMB Control No. 2900-0545]

Agency Information Collection Activity Under OMB Review: Report of Medical, Legal, and Other Expenses Incident to Recovery for Injury or Death

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before January 18, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0545” in any correspondence.

FOR FURTHER INFORMATION CONTACT: Cynthia Harvey-Pryor, Office of Quality, Privacy and Risk, Department of Veterans Affairs, 811 Vermont Avenue, Floor 5, Area 368, Washington, DC 20420, (202) 461-5870 or email cynthia.harvey-pryor@va.gov. Please refer to “OMB Control No. 2900-0545” in any correspondence.

SUPPLEMENTARY INFORMATION:

Authority: 38 U.S.C. 1503.

Title: Report of Medical, Legal, and Other Expenses Incident to Recovery for Injury or Death (VA Form 21P-8416b).

OMB Control Number: 2900-0545.

Type of Review: Extension without change of a currently approved collection.

Abstract: Information is requested by this form under the authority of 38 U.S.C. 1503. Regulatory authority is found in 38 CFR 3.262, 3.271, and 3.272. A claimant's eligibility for pension is determined, in part, by countable family income and certain deductible expenses.

VBA uses VA Form 21P-8416b to gather information that is necessary to determine eligibility for income-based benefits and the rate payable. When a claimant is awarded compensation by another entity or government agency based on personal injury or death, the compensation is usually countable income for VA purposes (38 CFR 3.262(i)). However, medical, legal or other expenses incident to the injury or death, or incident to the collection or recovery of the compensation, may be deducted from the amount of the award or settlement (38 CFR 3.271(g) and 3.272(g)).

An agency may not conduct or sponsor, and a person is not required to respond to a collection of information unless it displays a currently valid OMB control number. The Federal Register Notice with a 60-day comment period soliciting comments on this collection of information was published at 82 FR 22056 on October 12, 2017.

Affected Public: Individuals and households.

Estimated Annual Burden: 1,125 hours.

Estimated Average Burden per Respondent: 45 minutes.

Frequency of Response: Once.

Estimated Number of Respondents: 1,500.

By direction of the Secretary:
Cynthia Harvey-Pryor,
Department Clearance Officer, Office of Quality, Privacy and Risk, Department of Veterans Affairs.

[FR Doc. 2017-27265 Filed 12-18-17; 8:45 am]

BILLING CODE 8320-01-P